ENVIRONMENTAL PROTECTION AGENCY

[CERCLA 01-2024-0015; EPA-R01-SFUND-2024-0214; FRL-11942-01-R1]

Prospective Purchaser Proposed Settlement Agreement and Covenant Not To Sue Pursuant to the Comprehensive Environmental Response, Compensation, and Liability Act of 1980, as Amended; in Re: Olin Chemical Superfund Site, Located in Wilmington, Massachusetts

AGENCY: Environmental Protection Agency (EPA).

ACTION: Notice of proposed settlement agreement; request for public comment.

SUMMARY: The U.S. Environmental Protection Agency (“EPA”) is hereby providing notice of a proposed prospective purchaser settlement agreement between EPA and prospective purchaser Wilmington Woburn Industrial, LLC (“Settling Party”), which has an agreement to acquire the property located at 51 Eames Street in Wilmington, Middlesex County, Massachusetts, encompassing approximately 50 acres (“Property”), from Olin Corporation (“Contract”), embodied in an Administrative Agreement for Payment of Response Costs by Prospective Purchaser (“Settlement Agreement”). The proposed Settlement Agreement, EPA Region 1 CERCLA Docket No. 01-2024-0015, pertains to the Olin Chemical Superfund Site in Wilmington, Massachusetts (“Site”) and the Property, which is a portion of the Site. The proposed Settlement Agreement is entered into pursuant to the Comprehensive Environmental Response, Compensation, and Liability Act, as amended (“CERCLA,” also known as the Superfund law), and the authority of the Attorney General of the United States to compromise and settle claims of the United States.

On September 28, 2023, the U.S. District Court for the District of Massachusetts entered the Consent Decree in United States of America and Commonwealth of Massachusetts v. American Biltrite Inc., et al. case (1:23-cv-11044), in which American Biltrite Inc., NOR-AM Agro LLC, Olin Corporation, and Stepan Company (“Settling Defendants”) agreed to implement the remedy selected in the Record of Decision issued by EPA for the Site on March 30, 2021 (“Record of Decision”). The proposed Settlement Agreement requires the Settling Party to provide full cooperation, assistance, and access to persons authorized to conduct response actions at the Property, including Settling Defendants' implementation, under EPA oversight, of the remedy embodied in the Record of Decision in accordance with the Consent Decree. The proposed Settlement Agreement also requires the Settling Party to perform certain remedial design and remedial action activities pursuant to the Contract in coordination with Settling Defendants and in accordance with the terms of the Consent Decree and associated Statement of Work. Under the proposed Settlement Agreement, the Settling Party will make a payment to EPA of $73,202.39 as well as pay EPA for future costs in supporting, developing, implementing, overseeing, or enforcing the Agreement. The Settling Party consents to and will not contest the authority of the United States to enter into this proposed Settlement Agreement or to implement or enforce its terms. The Settling Party recognizes that this proposed Settlement Agreement has been negotiated in good faith and that this Agreement is entered into without the admission or adjudication of any issue of fact or law.

DATES: Comments must be submitted by August 1, 2024.

ADDRESSES: The proposed Settlement Agreement and related Site documents are available at EPA's website https://www.epa.gov/superfund/olin or by going to https://cumulis.epa.gov/supercpad/SiteProfiles/index.cfm?fuseaction=second.ars&id=0100438&doc=Y&colid=67528&region=01&type=AR. The proposed Settlement Agreement and related Site documents are available for public inspection at the U.S. EPA, Region 1, SEMS Records and Information Center, 5 Post Office Square, Suite 100, Boston, MA 02109 by appointment only (by calling 617-918-1440 or by emailing r1.records-sems@epa.gov). The proposed Settlement Agreement is also available for public inspection at https://www.regulations.gov by searching for Docket ID No. EPA-R01-SFUND-2024-0214. Submit your comments online via https://www.regulations.gov (Docket ID No. EPA-R01-SFUND-2024-0214). Follow the online instructions for submitting comments.

FOR FURTHER INFORMATION CONTACT: Maximilian Boal, Senior Enforcement Counsel, Office of Regional Counsel, U.S. Environmental Protection Agency, Region 1, 5 Post Office Square, Suite 100, Mail Code: 4-02, Boston, MA 02109, (617) 918-1750, email: boal.maximilian@epa.gov.

SUPPLEMENTARY INFORMATION: Once submitted, comments cannot be edited or removed from Regulations.gov. Do not submit electronically any information you consider to be Confidential Business Information (“CBI”) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For the full EPA public comment policy, information about CBI or multimedia submissions, and general guidance on making effective comments, see: https://www.epa.gov/dockets/commenting-epa-dockets. Any personally identifiable information (e.g., name, address, phone number) included in the comment form or in an attachment may be publicly disclosed in a docket or on the internet (via Regulations.gov, a federal agency website, or a third-party, non-government website with access to publicly-disclosed data on Regulations.gov). By submitting a comment, you agree to the terms of participation (visit: https://www.regulations.gov/user-notice) and privacy notice (visit: https://www.regulations.gov/privacy-notice).

For 30 days following the date of publication of this notice, EPA will receive written comments relating to the proposed Settlement Agreement. EPA will consider all comments received and may modify or withdraw its consent to this proposed Settlement Agreement if comments received disclose facts or considerations which indicate that the settlement is inappropriate, improper, or inadequate. EPA's response to any comments received will be available for public inspection at the U.S. EPA, Region 1, SEMS Records and Information Center, 5 Post Office Square, Suite 100, Boston, MA 02109 by appointment only (by calling 617-918-1440 or by emailing r1.records-sems@epa.gov). EPA's response to any comments will also be made available at EPA's website https://www.epa.gov/superfund/olin.

Bryan Olson,
Director, Superfund and Emergency Management Division, U.S. EPA, Region 1.

[FR Doc. 2024-14490 Filed 7-1-24; 8:45 am]

BILLING CODE P